DEPARTMENT OF ENERGY

Environmental Management Advisory Board; Meeting

AGENCY: Office of Environmental Management, Department of Energy.

ACTION: Notice of open meeting.

SUMMARY: This notice announces an online virtual open meeting of the Environmental Management Advisory Board (EMAB). The Federal Advisory Committee Act requires that public notice of this meeting be announced in the Federal Register.

DATES: Monday, July 18, 2022; 2:00 p.m.-5:00 p.m. EDT.

ADDRESSES: This meeting will be held virtually via Zoom. To attend, please contact Alyssa Petit by email, Alyssa.Petit@em.doe.gov, no later than 5:00 p.m. EDT on Wednesday, July 13, 2022.

FOR FURTHER INFORMATION CONTACT: Alyssa Petit, EMAB Federal Coordinator. U.S. Department of Energy, 1000 Independence Avenue SW, Washington, DC 20585. Phone (202) 430-9624 or Email: Alyssa.Petit@em.doe.gov.

SUPPLEMENTARY INFORMATION:

Purpose of the Board: The purpose of EMAB is to provide the Assistant Secretary for Environmental Management (EM) with independent advice and recommendations on corporate issues confronting the EM program. EMAB's membership reflects a diversity of views, demographics, expertise, and professional and academic experience. Individuals are appointed by the Secretary of Energy to serve as either special Government employees or representatives of specific interests and/or entities.

Tentative Agenda

• Remarks from EM leadership

• Charge Discussion

• Reading of Public Comment

• Ethics Briefing for EMAB Members

• Board Business

Public Participation: The online virtual meeting is open to the public. The Designated Federal Officer is empowered to conduct the conference call in a fashion that will facilitate the orderly conduct of business. Individuals wishing to make public comments should email them as directed above. If you require special accommodations due to a disability, please contact Alyssa Petit at least seven days in advance of the meeting at the email address listed above.

Public comments will be accepted via email prior to and after the meeting. Comments received no later than 5:00 p.m. EDT on Wednesday, July 13, 2022, will be read aloud during the virtual meeting. Comments will also be accepted after the meeting by no later than 5:00 p.m. EDT on Monday, July 25, 2022. Please email comments to Alyssa Petit at: Alyssa.Petit@em.doe.gov.

Minutes: Minutes will be available by writing or calling Alyssa Petit at the address or phone number listed above. Minutes will also be available at the following website: https://www.energy.gov/em/listings/emab-meetings.

Signed in Washington, DC, on June 14, 2022.
LaTanya Butler,
Deputy Committee Management Officer.

[FR Doc. 2022-13181 Filed 6-17-22; 8:45 am]

BILLING CODE 6450-01-P